DEPARTMENT OF ENERGY

Federal Energy Regulatory Commission

[Docket No. RP01-501-001]

PG&E Gas Transmission, Northwest Corporation; Notice of Compliance Filing

September 13, 2001.

Take notice that on September 7, 2001, PG&E Gas Transmission, Northwest Corporation (GTN) tendered for filing as part of its FERC Gas Tariff, First Revised Volume No. 1-A, Eighth Revised Sheet No. 144, to include by reference certain Gas Industry Standards Board (GISB) standards and a definition, as directed by the Commission in its August 24, 2001 Letter Order in this docket.

GTN further states that a copy of this filing has been served on GTN's jurisdictional customers and interested state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23390 Filed 9-19-01; 8:45 am]

BILLING CODE 6717-01-P